DEPARTMENT OF THE INTERIOR

Bureau of Reclamation

Final Environmental Impact Statement for the Windy Gap Firming Project, Colorado

AGENCY: Bureau of Reclamation, Interior.

ACTION: Notice of availability.

SUMMARY: The Final Environmental Impact Statement (EIS) for the Windy Gap Firming Project is available for public review. The Bureau of Reclamation (Reclamation) has evaluated comments and has identified Alternative 2 as the Preferred Alternative. The Preferred Alternative includes construction of Chimney Hollow Reservoir, pre-positioning of Colorado-Big Thompson (C-BT) water in the new reservoir, and a new pipeline to convey water to the reservoir from existing C-BT facilities.

DATES: Reclamation will not make a decision on the Proposed Action until at least 30 days after release of the Final EIS.

ADDRESSES: The Final EIS and related documents are available for review at http://www.usbr.gov/gp/ecao.

To obtain a compact disk of the Final EIS, contact Lucy Maldonado at the Bureau of Reclamation, 11056 West County Rd. 18E, Loveland, CO 80537-9711; (970) 962-4369, facsimile (970) 663-3212, lmaldonado@usbr.gov; or Kara Lamb at (970) 962-4326; klamb@usbr.gov.

Refer to the SUPPLEMENTARY INFORMATION section for locations of libraries where paper and electronic copies of the Final EIS are available for reading.

FOR FURTHER INFORMATION CONTACT: Lucy Maldonado at (970) 962-4369, lmaldonado@usbr.gov; or Kara Lamb at (970) 962-4326, klamb@usbr.gov.

SUPPLEMENTARY INFORMATION:

Background: The Windy Gap Firming Project was proposed by the Municipal Subdistrict, Northern Colorado Water Conservancy District, acting by and through the Windy Gap Firming Project Water Activity Enterprise (Subdistrict). The Preferred Alternative (Proposed Action) described in the Final EIS includes:

• Construction of Chimney Hollow Reservoir (90,000 acre-feet) by the Subdistrict;

• Pre-positioning of Colorado-Big Thompson (C-BT) water in the new reservoir;

• A new pipeline to convey water to the new reservoir from existing C-BT facilities.

The Subdistrict completed the Windy Gap Project by 1985 following a final environmental statement and a Record of Decision prepared by Reclamation in 1981. The Windy Gap Project is neither federally owned nor operated, although Windy Gap Project water is conveyed through Reclamation's C-BT Project facilities.

Reclamation allows the storage and transport of Windy Gap Project water in the C-BT Project through an excess capacity contract with the Subdistrict. The Windy Gap Project was originally planned to divert an estimated long-term annual average of 56,000 acre feet (AF) of water from the Colorado River. During actual operation, the Windy Gap Project has been unable to provide the expected yield due to its junior water right and periodic lack of excess capacity in the C-BT Project.

The Subdistrict concluded that the firm yield (the amount it can guarantee annually) of the Windy Gap Project is actually zero because it is unable to deliver Windy Gap water to Colorado's Front Range community participants in all years. The purpose of the Windy Gap Firming Project is to increase the annual firm yield to about 30,000 AF. This would be based upon a long-term average annual diversion of about 46,000 AF from the Colorado River basin. From 1985 to 2005, Windy Gap diverted an average annual 11,080 AF of water per year. However, demands among the participants have been increasing so that diversions for 1999 through 2008 have averaged 21,957 AF per year.

The Subdistrict developed this proposal to improve their ability to deliver water from Windy Gap. The proposal is to construct Chimney Hollow Reservoir on the eastern slope near Carter Lake (C-BT Project), along with a connecting pipeline from C-BT Project facilities to deliver Windy Gap water to Chimney Hollow Reservoir. Reclamation's Preferred Alternative in the Final EIS is implementation of the Proposed Action. This new reservoir would be used to store and pre-position Windy Gap Project water for delivery to participants along the Front Range. Under the pre-positioning proposal included in the Preferred Alternative, Chimney Hollow Reservoir would also store C-BT Project water when it is pre-positioned in Chimney Hollow Reservoir to make space in Granby Reservoir for Windy Gap water. The Preferred Alternative would continue to use C-BT Project facilities to deliver Windy Gap Project water to the Front Range.

Reclamation is the lead agency in compliance under the National Environmental Policy Act, while the U.S. Army Corps of Engineers (Corps), the Western Area Power Administration (Western), and the Board of County Commissioners, Grand County, Colorado (Grand County) helped prepare the EIS as cooperating agencies. Each agency has separate decision-making processes. Reclamation has the lead role because of its permitting authority in allowing the Subdistrict to use federal infrastructure. The Corps is involved due to the requirement for a Clean Water Act Section 404 permit. Western is involved due to an electric power line that would be affected by the project, while Grand County is involved because of its stated position on permitting authority under Colorado's 1041 regulations for matters of State interest.

If selected in the Record of Decision, implementing the Preferred Alternative will require the following federal actions:

(1) Reclamation would need to issue the Subdistrict a permit for the proposed connection to C-BT Project facilities and amend the existing Windy Gap Project excess capacity water contract, or provide a new contract.

(2) The Corps would need to issue the Subdistrict a Clean Water Act Section 404 permit for fill to be placed in waters of the United States for dam construction and address any project impacts to waters of the United States and jurisdictional wetlands.

(3) Western would need to relocate a segment of power line that would otherwise be inundated by Chimney Hollow Reservoir. Relocation of the power line including road access would require Western to obtain a right-of-way across private and county lands.

Five alternatives presented in the Draft EIS were brought forward into the Final EIS. The five alternatives evaluated in the EIS include:

• Alternative 1 (No Action)—Continuation of existing operations and agreements between Reclamation and the Subdistrict for conveyance of Windy Gap water through C-BT facilities.

• Alternative 2 (Preferred Alternative)—Chimney Hollow Reservoir (90,000 AF) with pre-positioning.

• Alternative 3—Chimney Hollow Reservoir (70,000 AF) and Jasper East Reservoir (20,000 AF).

• Alternative 4—Chimney Hollow Reservoir (70,000 AF) and Rockwell/Mueller Creek Reservoir (20,000 AF).

• Alternative 5—Dry Creek Reservoir (60,000 AF) and Rockwell/Mueller Creek Reservoir (30,000 AF).

All action alternatives include development of 90,000 AF of new storage either in a single reservoir on the east slope or a combination of east and west slope reservoirs. All of the action alternatives require a connection to C-BT facilities. Alternative 2 is the Subdistrict's Proposed Action and Reclamation's Preferred Alternative.

Reclamation expects to complete the National Environmental Policy Act process with a Record of Decision no sooner than 30 days after the Final EIS is made available to the public. The Record of Decision will document Reclamation's selection of an alternative for the Windy Gap Firming Project and discuss the factors, including C-BT water rights, considered in making that decision. If the selected alternative includes issuing a water contract, Reclamation intends to determine whether the proposed contract complies with Senate Document 80 and other applicable authorities before execution of the proposed contract.

Public Comments: Copies of the Draft EIS were distributed to Members of Congress; Native American Tribal governments; Federal, State, and local officials; and organizations and individuals interested in or affected by the proposed project. A Notice of Availability announcing the release of the Draft EIS was published in the Federal Register on August 29, 2008 (73 FR 50999). The public comment period was open from August 29, 2008, through December 29, 2008. Two public hearings were held: One on October 7, 2008, in Loveland, Colorado, and one on October 9, 2008, in Granby, Colorado. Reclamation considered all comments received during the comment period, and the Final EIS contains revisions and new information based in part on these comments. The comments and Reclamation's responses to these comments are included in the Final EIS.

Locations in Colorado Where Hard Copies and Electronic Copies of the Final EIS May Be Reviewed

• Berthoud, Berthoud Public Library, 236 Welch Avenue

• Broomfield, Mamie Eisenhower Public Library, 3 Community Park Road

• Ft. Collins, Ft. Collins Public Library, 201 Peterson Street

• Ft. Collins, Morgan Library, Colorado State University, 501 University Avenue

• Ft. Lupton, Ft. Lupton Public Library, 425 South Denver Avenue

• Granby, Granby Branch Library, 13 East Jasper Avenue

• Grand Lake, Juniper Library, 316 Garfield Street

• Greeley, Centennial Park Branch, Weld Library District, 2227 23rd Avenue

• Greeley, Farr Branch, Weld Library District, 1939 61st Avenue

• Greeley, Lincoln Park Branch, Weld Library District, 919 7th Street

• Hot Sulphur Springs, Hot Sulphur Springs Branch Library, 105 Moffat

• Kremmling, Kremmling Branch Library, 300 South 8th Street

• Littleton, Corps of Engineers, 9307 South Wadsworth Blvd.

• Longmont, Longmont Public Library, 409 4th Avenue

• Louisville, Louisville Public Library, 950 Spruce Street

• Loveland, Bureau of Reclamation, 11056 W. County Rd. 18E

• Loveland, Loveland Public Library, 300 North Adams Avenue

• Lyons, Lyons Depot Library, 5th and Broadway

Dated: November 23, 2011.
John F. Soucy,
Deputy Regional Director, Great Plains Region.

[FR Doc. 2011-30827 Filed 11-29-11; 8:45 am]

BILLING CODE 4310-MN-P